DEPARTMENT OF COMMERCE

National Oceanic and Atmospheric Administration

RIN 0648-XA713

Endangered Species; Permit No. 16507-01

AGENCY: National Marine Fisheries Service (NMFS), National Oceanic and Atmospheric Administration (NOAA), Commerce.

ACTION: Notice; issuance of permit modification.

SUMMARY: Notice is hereby given that a request for modification of scientific research Permit No. 16507 submitted by Dewayne Fox, Ph.D., of Delaware State University, 1200 North DuPont Highway, Dover, DE 19901 has been granted.

ADDRESSES: The modification and related documents are available for review upon written request or by appointment:

Permits and Conservation Division, Office of Protected Resources, NMFS, 1315 East-West Highway, Room 13705, Silver Spring, MD 20910; phone (301)427-8401; fax (301)713-0376; and Northeast Region, NMFS, 55 Great Republic Drive, Gloucester, MA 01930-2298; phone (978)281-9328; fax (978)281-9394.

FOR FURTHER INFORMATION CONTACT: Colette Cairns or Malcolm Mohead, (301)427-8401.

SUPPLEMENTARY INFORMATION: The requested modification has been granted under the authority of the Endangered Species Act of 1973, as amended (ESA; 16 U.S.C. 1531 et seq.) and the provisions of § 222.306 of the regulations governing the taking, importing, and exporting of endangered and threatened fish and wildlife (50 CFR 222-226).

Permit No. 16507 authorizes researchers to use gill nets to capture adult and juvenile Atlantic sturgeon and egg mats to capture larval fish. Adult and juvenile Atlantic sturgeon may be measured, weighed, photographed, passive integrated transponder and Floy tagged, and tissue sampled; a subset will be anesthetized, implanted with an internal sonic tag, fin ray sampled, and gonad tissue sampled. The objectives of this research are to provide more detailed information on the spawning location of sturgeon and to develop a fishery independent sampling program to help assess recovery of the species. The permit holder is now authorized to capture and sample up to 100 shortnose sturgeon annually in the Delaware River and Bay. All research objectives, capture methods, action areas, and activities remain unchanged. The modification is valid until the permit expires on April 5, 2017.

Issuance of this modification, as required by the ESA was based on a finding that such permit: (1) Was applied for in good faith; (2) will not operate to the disadvantage of such endangered or threatened species, and (3) is consistent with the purposes and policies set forth in section 2 of the ESA.

Dated: April 17, 2013.
P. Michael Payne,
Chief, Permits and Conservation Division, Office of Protected Resources, National Marine Fisheries Service.

[FR Doc. 2013-09478 Filed 4-22-13; 8:45 am]

BILLING CODE 3510-22-P